DEPARTMENT OF DEFENSE

Department of the Army

Availability of U.S. Patent Applications for Non-Exclusive, Exclusive, or Partially Exclusive Licensing

AGENCY: Department of the Army, DoD.

ACTION: Notice of availability.

SUMMARY: In accordance with 35 U.S.C. 209 and 37 CFR part 404 announcement is made of the availability for licensing of the following U.S. Patent Applications for non-exclusive, exclusive, or partially exclusive licensing listed in under SUPPLEMENTARY INFORMATION. The inventions listed below have been assigned to the United States Government as presented by the Secretary of the Army, Washington, DC.

FOR FURTHER INFORMATION CONTACT: Mr. John Biffoni, Intellectual Property Attorney, U.S. Army Soldier and Biological Chemical Command, ATTN: AMSSB-CC (Bldg E4435), APG, MD 21010-5424, Phone: (410) 436-1158; Fax: (410) 436-2534 or E-mail: John.Biffoni@sbccom.apgea.army.mil.

SUPPLEMENTARY INFORMATION: 1. Title: “Chemical/Biological Escape Hood.”

Description: The present invention is directed to an escape hood which is relatively inexpensive, lightweight, and compact, which enable the wearer to breathe for a sufficient time while escaping or evacuating from hazardous environments. The escape hood of the present invention is simple in design for manufacturing ease. It provides complete eye and face protection, while minimizing heat and carbon dioxide buildup and excessive moisture retention. The level and duration of protection against toxic biological and chemical agents provided by the escape hood make it especially suitable for emergency use.

Patent Application Number: 09/968,091.

Filing Date: 1 October 2001.

2. Title: “Chemical/Biological Special Operations Mask”.

Description: This invention relates to fill-face respiratory masks adapted for protecting the wearer against biologically/chemically hazardous materials especially in the form of airborne particulates, vapors and aerosols.

Patent Application Number: 09/968.193.

Filing Date: 1 October 2001.

Luz D. Ortiz,
Army Federal Register Liaison Officer.

[FR Doc. 03-23171 Filed 9-10-03; 8:45 am]

BILLING CODE 3710-08-M